OFFICE OF PERSONNEL MANAGEMENT

Submission for Review: Health Benefits Cancellation/Suspension Confirmation, RI 79-9

AGENCY: U.S. Office of Personnel Management.

ACTION: 60-Day notice and request for comments.

SUMMARY: In accordance with the Paperwork Reduction Act of 1995 (PRA), the U.S. Office of Personnel Management (OPM) is proposing approval of a collection currently in use without approval. The Office of Personnel Management (OPM), Retirement Services offers the general public and other federal agencies the opportunity to comment on the collection Health Benefits Cancellation/Suspension Confirmation, RI 79-9.

DATES: Comments are encouraged and will be accepted until June 23, 2025.

ADDRESSES: You may submit comments, identified by docket number and title, by the following method:

• Federal Rulemaking Portal: https://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, Office of Personnel Management, 1900 E Street NW, Room 3316-L, Washington, DC 20415, Attention: Cyrus S. Benson, or by email at RSPublicationsTeam@opm.gov, by fax at (202) 606-0910, or via telephone at (202) 936-0401.

SUPPLEMENTARY INFORMATION: Annuitants who are enrolled in the Federal Employees Health Benefit (FEHB) Program can cancel or suspend their enrollment. The form, RI 79-9, ensures that an individual is fully informed about the effect of a cancellation of FEHB coverage. A Cancellation (Options A & B) of enrollment within the FEHB Program will prevent the annuitant from ever re-enrolling and will not provide them or any covered family members under their enrollment to a free 31-day Temporary Extension of Coverage (TEC) to convert to an individual health benefits contract or to enroll for Temporary Continuation of Coverage. However, if the annuitant requests to cancel their enrollment to be covered under a family member's FEHB Program enrollment, they will be eligible to resume their own enrollment if their coverage under the spouse's enrollment ends for any reason. Therefore, the individual must sign the form and certify their understanding about the effect of a cancellation on future FEHB enrollment eligibility. A request is not processed until the signed form is returned to OPM. RI 79-9 has been revised as follows: (1) addition of the OMB control number, (2) updated Retirement Eligibility and Service room number, (3) abbreviated Federal Employees Health Benefits Program reference to FEHBP, (4) included hearing impaired users access instructions, (5) removed all Affordable Care Act (ACA) Minimum Essential Coverage (MEC) references, and (6) included privacy act and public burden statements.

As required by the Paperwork Reduction Act of 1995, as amended, (44 U.S.C. chapter 35) OPM is soliciting comments for this collection (OMB No. 3206-XXXX). The OPM is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management, Retirement Services.

Title: Health Benefits Cancellation/Suspension Confirmation.

OMB Number: 3206-XXXX.

Frequency: On occasion.

Affected Public: Individuals or Households.

Number of Respondents: 30,000.

Estimated Time per Respondent: 10 minutes.

Total Burden Hours: 5,000.

U.S. Office of Personnel Management.
Alexys Stanley,
Federal Register Liaison.

[FR Doc. 2025-07034 Filed 4-23-25; 8:45 am]

BILLING CODE 6325-38-P